DEPARTMENT OF COMMERCE

International Trade Administration

[A-570-851]

Certain Preserved Mushrooms from the People's Republic of China: Initiation of New Shipper Antidumping Duty Review

AGENCY: Import Administration, International Trade Administration, Department of Commerce.

EFFECTIVE DATE: April 2, 2007.

SUMMARY: On February 20, 2007, the Department of Commerce (“the Department”) received a request from the exporter and producer Ayecue (Liaocheng) Foodstuff Co., Ltd. (“Ayecue”) to conduct a new shipper review (“NSR”) of the antidumping duty order on certain preserved mushrooms from the People's Republic of China (“PRC”). In accordance with section 751(a)(2)(B) of the Tariff Act of 1930, as amended (“the Act”), and 19 CFR 351.214(d), we are initiating a NSR of Ayecue.

FOR FURTHER INFORMATION CONTACT: Thomas Martin or Mark Manning; AD/CVD Operations, Office 4, Import Administration, International Trade Administration, U.S. Department of Commerce, 14th Street and Constitution Ave., NW., Washington, DC 20230; telephone: (202) 482-3936 or (202) 482-5253, respectively.

SUPPLEMENTARY INFORMATION:

Background

The Department received a timely request from Ayecue on February 20, 2007, in accordance with section 751(a)(2)(B) of the Act and 19 CFR 351.214(c), for a NSR of the antidumping duty order on certain preserved mushrooms from the PRC, which has a February anniversary month. See Notice of Amendment of Final Determination of Sales at Less Than Fair Value and Antidumping Duty Order: Certain Preserved Mushrooms From the People's Republic of China, 64 FR 8308 (February 19, 1999). Upon review, the Department determinated that Ayecue's February 20, 2007, request was deficient in certain areas. The Department issued a supplemental to Ayecue on February 27, 2007. On March 19, 2007, Ayecue submitted a revised request for a NSR that provided the requested information.

Ayecue identified itself as a producer and exporter of preserved mushrooms. As required by 19 CFR 351.214(b)(2)(i) and (iii)(A), Ayecue certified that it did not export preserved mushrooms to the United States during the period of investigation (“POI”), and that it has never been affiliated with any exporter or producer which exported preserved mushrooms to the United States during the POI. Furthermore, the company also certified that its export activities are not controlled by the government of the PRC, satisfying the requirements of 19 CFR 351.214(b)(2)(iii)(B).

Pursuant to 19 CFR 351.214(b)(2)(iv), Ayecue submitted documentation establishing the date on which the subject merchandise was first entered for consumption in the United States, the volume of that first shipment and any subsequent shipments, and the date of the first sale to an unaffiliated customer in the United States. Based on the information submitted by Ayecue, we have determined that Ayecue has met the statutory and regulatory requirements for the initiation of a NSR. The Department queried the U.S. Customs and Border Protection (“CBP”) entry database to confirm that the shipment made by Ayecue had officially entered the United States via assignment of an entry date in the Customs database by CBP. In addition, the Department confirmed the existence of Ayecue and its U.S. customer.

Initiation of Review

In accordance with section 751(a)(2)(B) of the Act and 19 CFR 351.214(d)(1), and based on information on the record, we are initiating a NSR for Ayecue. See Memorandum to the File, from Thomas Martin, International Trade Compliance Analyst, through Abdelali Elouaradia, Director, Office 4, AD/CVD Operations, “Initiation of Antidumping Duty New Shipper Review: Certain Preserved Mushrooms from the People's Republic of China,” dated March 27, 2007. We intend to issue the preliminary results of this review not later than 180 days after the date on which this review was initiated, and the final results of this review within 90 days after the date on which the preliminary results were issued.

Pursuant to 19 CFR 351.214(g)(1)(i)(A), the period of review (“POR”) for a NSR, initiated in the month immediately following the anniversary month, will be the 12-month period immediately preceding the anniversary month. Therefore, the POR for the NSR of Ayecue is February 1, 2006, through January 31, 2007.

In cases involving non-market economies, the Department requires that a company seeking to establish eligibility for an antidumping duty rate separate from the country-wide rate provide evidence of de jure and de facto absence of government control over the company's export activities. See Notice of Final Determination of Sales at Less Than Fair Value: Bicycles From the People's Republic of China, 61 FR 19026, 19027 (April 30, 1996). Accordingly, we will issue a questionnaire to Ayecue, including a separate rates section. The review will proceed if the responses provide sufficient indication that Ayecue is not subject to either de jure or de facto government control with respect to its exports of preserved mushrooms. However, if Ayecue does not demonstrate its eligibility for a separate rate, then the company will be deemed not separate from other companies that exported during the POI and the NSR will be rescinded as to the company.

On August 17, 2006, the Pension Protection Act of 2006 (H.R. 4) was signed into law. Section 1632 of H.R. 4 temporarily suspends the authority of the Department to instruct CBP to collect a bond or other security in lieu of a cash deposit in NSRs. Therefore, the posting of a bond under section 751(a)(2)(B)(iii) of the Act and 19 CFR 351.214(e) in lieu of a cash deposit is not available in this case. Importers of subject merchandise manufactured and exported by Ayecue must continue to pay a cash deposit of estimated antidumping duties on each entry of subject merchandise at the current PRC-wide rate of 198.63 percent.

Interested parties that require access to proprietary information in this NSR should submit applications for disclosure under administrative protective orders in accordance with 19 CFR 351.305 and 351.306.

This initiation and notice are in accordance with section 751(a)(2)(B) of the Act, 19 CFR 351.214(d), and 19 CFR 351.221(c)(1)(i).

Dated: March 27, 2007.
Stephen J. Claeys,
Deputy Assistant Secretary for Import Administration.

[FR Doc. E7-6062 Filed 3-30-07; 8:45 am]

BILLING CODE 3510-DS-S